DEPARTMENT OF LABOR

Employment and Training Administration

[NAFTA-05297]

Wackenhut Security, Agrium Security, Kennewick, WA; Notice of Termination of Investigation

Pursuant to Title V of the North American Free Trade Agreement Implementation Act (P.L. 103-182) concerning transitional adjustment assistance, hereinafter called NAFTA-TAA and in accordance with section 250(a), Subchapter D, Chapter 2, Title II, of the Trade Act of 1974, as amended (19 U.S.C. 2331), an investigation was initiated on September 4, 2001, in response to a worker petition which was filed on behalf of workers at Wakenhut Security, Agrium Security, Kennewick, Washington.

The petitioner has requested that the petition be withdrawn. Consequently, further investigation in this case would serve no purpose, and the investigation has been terminated.

Signed in Washington, DC., this 23rd day of October 2001.
Linda G. Poole,
Certifying Officer, Division of Trade Adjustment Assistance.

[FR Doc. 01-27800 Filed 11-5-01; 8:45 am]

BILLING CODE 4510-30-M